DEPARTMENT OF TRANSPORTATION

Federal Aviation Administration

14 CFR Part 61

[Docket No.: FAA-2018-1050; Notice No. 18-05]

RIN 2120-AL23

Removal of Training Requirements for an Airline Transport Pilot Certificate Issued Concurrently With a Single-Engine Airplane Type Rating

AGENCY: Federal Aviation Administration (FAA), DOT.

ACTION: Notice of proposed rulemaking.

SUMMARY: This notice of proposed rulemaking (NPRM) would remove an unnecessary multiengine training requirement for pilots seeking to obtain an initial airline transport pilot (ATP) certificate concurrently with a single-engine airplane type rating. This action also proposes to revise several pilot certification regulations by removing the July 31, 2014 date, which served as the compliance date for the multiengine ATP training requirements, because the date is no longer necessary.

DATES: Send comments by February 19, 2019

ADDRESSES: Send comments identified by docket number 2018-1050 using any of the following methods:

• Federal eRulemaking Portal: Go to http://www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at http://www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Barbara Adams, Air Transportation Division, Air Carrier Training Systems and Voluntary Safety Programs Branch, Federal Aviation Administration, 800 Independence Avenue SW, Washington, DC 20591; telephone 202-267-8166; email: Barbara.Adams@faa.gov.

SUPPLEMENTARY INFORMATION:

Authority for This Rulemaking

The FAA's authority to issue rules on aviation safety is found in Title 49 of the United States Code (49 U.S.C.). Subtitle I, Section 106 describes the authority of the FAA Administrator. Subtitle VII, Aviation Programs, describes in more detail the scope of the agency's authority.

This rulemaking is promulgated under the authority described in 49 U.S.C. 106(f), which establishes the authority of the Administrator to promulgate regulations and rules; 49 U.S.C. 44701(a)(5), which requires the Administrator to promulgate regulations and minimum standards for other practices, methods, and procedures necessary for safety in air commerce and national security; and 49 U.S.C. 44703(a), which requires the Administrator to prescribe regulations for the issuance of airman certificates when the Administrator finds, after investigation, that an individual is qualified for, and physically able to perform the duties related to, the position authorized by the certificate. This rulemaking is within the scope of the FAA's authority because it amends the eligibility requirements for the issuance of a single-engine airplane ATP certificate.

Table of Contents

I. Overview of Proposed Rule

II. Background

A. Current Regulations

B. History

III. Discussion of the Proposal

IV. Regulatory Notices and Analyses

A. Regulatory Evaluation

B. Regulatory Flexibility Determination

C. International Trade Impact Assessment

D. Unfunded Mandates Assessment

E. Paperwork Reduction Act

V. Executive Order Determinations

A. Executive Order 13132, Federalism

B. Executive Order 13211, Regulations That Significantly Affect Energy Supply, Distribution, or Use

C. Executive Order 13609, International Cooperation

D. Executive Order 13771, Reducing Regulation and Controlling Regulatory Costs

VI. Additional Information

A. Comments Invited

B. Availability of Rulemaking Documents

C. Small Business Regulatory Enforcement Fairness Act

I. Overview of Proposed Rule

This NPRM would remove an unnecessary multiengine training requirement for pilots seeking to obtain an initial airline transport pilot (ATP) certificate concurrently with a single-engine airplane type rating. The FAA also proposes to revise several pilot certification regulations by removing the July 31, 2014 date, which served as the compliance date for the multiengine ATP training requirements, because the date is no longer necessary.

II. Background

A. Current Regulations

Current regulations require a pilot seeking an ATP certificate concurrently with an airplane type rating to complete training in an FAA-approved course from an authorized training provider, including ground training and flight simulation training device (FSTD) training in a device that represents a multiengine airplane. Therefore, this training requirement was intended for pilots seeking an ATP certificate in a multiengine airplane. However, because of the way the regulations are written,¹ the requirement for training in a multiengine airplane has the unintended effect of applying to a pilot seeking a type rating for a single-engine airplane concurrently with an ATP certificate. When the training requirement became effective in 2014, there were no single-engine airplanes that required the pilot to obtain a type rating prior to serving as pilot in command. However, with the certification of the Cirrus Vision Jet in 2016, there is now is a single-engine airplane that requires the pilot to obtain a type rating prior to serving as pilot in command. Under the current regulations, if a pilot seeks to obtain the type rating in the Cirrus Vision Jet concurrently with the initial issuance of the ATP certificate in the airplane category with a single-engine type rating, that pilot would be required to complete the multiengine training to be eligible for the practical test.

¹ 14 CFR 61.156 specifically states the training requirement applies to a pilot seeking a multiengine class rating on his or her ATP certificate or a pilot seeking an airplane type rating concurrent with an ATP certificate. The use of “airplane type rating” means it applies to both single-engine and multiengine airplane type ratings. In paragraph (b), however, the FSTD training is required to be in a device that represents a multiengine airplane.

B. History

The Airline Safety and Federal Aviation Administration Extension Act of 2010 (Pub. L. 111-216) (the “Act”) was signed into law in August 2010 and included provisions to improve airline safety and pilot certification and training. In response to the Act, FAA modified the eligibility requirements for an ATP certificate with an airplane category multiengine class rating with the publication of the Pilot Certification and Qualification Requirements for Air Carrier Operations Final Rule (78 FR 42324) in July 2013 (2013 Final Rule). Section 216 of the Act specifically required all pilots in part 121 to have an ATP certificate and an appropriate amount of multiengine time. Section 217 of the Act established minimum qualifications for an ATP certificate that were focused on air carrier pilots and multiengine airplane experience. The statutes did not address single-engine airplanes. Additionally, part 121 prohibits the use of single-engine airplanes.²

² 14 CFR 121.159 prohibits use of a single-engine airplane in part 121 operations.

To address the ATP requirements set forth in the Act, the FAA established a requirement for a pilot to complete an FAA-approved ATP certification training program (ATP CTP) that includes ground training and flight training in a multiengine flight simulation training device (FSTD). Pilots must complete the ATP CTP to be eligible for the multiengine ATP knowledge test.³ Upon review of the regulatory requirements for an ATP certificate, the FAA found that some of them, as written, do not distinguish between a pilot getting a single-engine airplane rating and a multiengine airplane rating. For example, as noted, pilots seeking an “airline transport pilot certificate obtained concurrently with an airplane type rating” are required to complete the ATP CTP specified in § 61.156 and receive a graduation certificate from an authorized training provider. With that express language, pilots seeking an ATP certificate concurrently with a single-engine airplane type rating must complete multiengine airplane training to obtain an ATP certificate in a single-engine airplane.

³ These training requirements are found in 14 CFR 61.156.

At the time the 2013 Final Rule published, there were no single-engine airplanes that required a type rating to serve as pilot in command (PIC); therefore, there were no comments indicating concern with completing multiengine training to be eligible for a type rating. However, since the 2013 Final Rule published, Cirrus Aircraft received type certification for its single-engine Vision Jet (SF50) ⁴ and a pilot is required to hold a type rating for that airplane to serve as PIC. The way that § 61.156 is written, a pilot cannot complete a practical test for an initial ATP certificate with the SF50 type rating unless the pilot completes multiengine training. Alternatively, to avoid the training requirement, a pilot could use a different single-engine airplane (i.e., one that does not require a type rating) to obtain the initial ATP certificate and then complete a second practical test in the SF50 to add the type rating to the ATP certificate.⁵ Or, a pilot could add the type rating to his or her commercial pilot certificate first and then complete an ATP practical test in a different single-engine airplane and the SF50 type rating would be carried forward to the ATP certificate. In either case the pilot would be taking an additional and unnecessary practical test to avoid completing the multiengine training in the ATP CTP.

⁴ Cirrus Aircraft received type certification of the SF50 Vision Jet in October 2016.

⁵ 14 CFR 61.157(b).

III. Discussion of the Proposal

As previously mentioned, several sections in part 61 apply to a pilot seeking an ATP certificate with a multiengine airplane rating or an ATP certificate concurrently with an “airplane type rating.” While these regulations were intended to apply to pilots seeking an ATP certificate in a multiengine airplane, the regulations do not specify that they apply only to pilots seeking a “multiengine” airplane type rating. Therefore, the requirements apply to pilots seeking an ATP certificate concurrently with a multiengine type rating as well as pilots seeking an ATP certificate concurrently with a single-engine airplane type rating.

In this NPRM, the FAA is proposing to revise §§ 61.39(d), 61.153(e), 61.156, and 61.165(f) to reflect that the ground training and FSTD training in a multiengine airplane, which is specified in § 61.156, applies to pilots seeking an ATP certificate with a multiengine airplane rating or an ATP certificate obtained concurrently with a multiengine airplane type rating. Additionally, because §§ 61.39(b), 61.155(c)(14), and 61.160 contain the same problematic language that fails to specify “multiengine” airplane type rating, the FAA is proposing to make similar revisions to §§ 61.39(b), 61.155(c)(14), and 61.160 to reflect the FAA's original intent. These proposed amendments are necessary to ensure a pilot seeking an ATP certificate concurrently with a single-engine airplane type rating will not be required to comply with unnecessary training requirements that were intended for applicants seeking an ATP certificate in a multiengine airplane. Consistent with the Act's direction to enhance multiengine experience requirements, this NPRM does not propose any changes for what is currently required for a pilot seeking a multiengine airplane ATP certificate.

The FAA notes that while the burdensome multiengine training requirement of § 61.156 would be removed for a pilot seeking an ATP certificate concurrently with a single-engine airplane type rating, there would be no reduction in safety because a pilot would still be required to obtain specific training and testing that is appropriate to the single-engine airplane type rating the pilot is seeking. More specifically, to add a single-engine airplane type rating to an ATP certificate or obtain a single-engine type rating concurrently with an ATP certificate, a pilot must receive and log ground and flight training from an authorized instructor, receive an endorsement from an authorized instructor that the training was completed, and perform a practical test in accordance with the requirements in § 61.157(b).

In addition to the proposed amendments previously discussed, the FAA is proposing to amend several sections in part 61 by removing the July 31, 2014 date, which served as the compliance date for the multiengine training requirement. Now that the date has passed, the FAA finds that the date is no longer necessary in the following regulations: §§ 61.35(a)(2) and (a)(3)(iii)(B),⁶ 61.153(e), 61.155(c)(14), 61.156, 61.165(c)(2) and (f)(2). The FAA is also proposing to remove § 61.35(a)(3)(iii)(B) as unnecessary because it contained a prerequisite for applicants seeking issuance of an ATP certificate prior to August 1, 2014. As a result, § 61.35(a)(3)(iii)(C) is redesignated as § 61.35(a)(3)(iii)(B).

⁶ The FAA notes that this NPRM redesignated § 61.35(a)(3)(iii)(C) as § 61.35(a)(3)(iii)(B).

Furthermore, the FAA finds that § 61.155(d) is no longer necessary. This section required an applicant who successfully completed the ATP knowledge test prior to August 1, 2014, to successfully complete the practical test within 24 months from the month in which the knowledge test was successfully completed. Because more than 40 months has elapsed since August 1, 2014, it is impossible for an applicant to successfully complete an ATP practical test within 24 months of taking a knowledge test prior to that date. The FAA is therefore proposing to remove § 61.155(d) from part 61. For the same reasons, the FAA is proposing to remove the language from § 61.165(f)(2) that allows a pilot to present valid ATP knowledge test results from a test taken prior to August 1, 2014.

IV. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or NPRMs that include a Federal mandate likely to result in the expenditure by State, local, or tribal governments, in the aggregate, or by the private sector, of $100 million or more annually (adjusted for inflation with base year of 1995). This portion of the preamble summarizes the FAA's analysis of the economic impacts of this proposed rule.

In conducting these analyses, FAA has determined that this proposed rule: (1) Has cost savings with no additional costs; (2) is not an economically “significant regulatory action” as defined in section 3(f) of Executive Order 12866; (3) does not require an analysis under the Regulatory Flexibility Act; (4) would not create unnecessary obstacles to the foreign commerce of the United States; and (5) would not impose an unfunded mandate on state, local, or tribal governments, or on the private sector by exceeding the threshold identified above. These analyses are summarized below.

This proposed rule would not make any changes to the requirements for a pilot seeking a multiengine airplane ATP certificate. Rather, this proposed rule would simply remove an unintended and unnecessary training requirement in multiengine airplanes for a pilot seeking a single-engine airplane ATP certificate concurrently with a single-engine airplane type rating, with no reduction in safety because a pilot will still be required to obtain specific training and be tested to receive the single-engine airplane type rating.

This proposed rule would relieve costs for a pilot seeking both an ATP certificate concurrently with a single-engine airplane type rating. Current regulations require a person seeking both an ATP and a single-engine type rating to complete multiengine airplane training.

In order to estimate future cost savings of removing unnecessary multiengine training requirements for pilots seeking to obtain an initial Airline Transport Pilot (ATP) certificate concurrently with a single-engine airplane type rating, the regulatory evaluation of the final rule is based on the following key assumptions, factors and data.

• We use a five-year period of analysis based on the most current data available at the time.

• We use a seven and three percent discount rate for calculating present values of benefits and costs as prescribed by OMB in Circular A-4.

• Estimates are provided in constant dollars with 2017 as the base year.

• We estimate that costs of an airline transport pilot (ATP) certification training program (CTP) to an applicant to be $5,000.

• We estimate that the cost of renting a newer glass cockpit single-engine airplane to be $175 per hour wet. An airplane rented wet includes maintenance, insurance, fuel, airport fees, any other duties, and taxes.

• We estimate that for an ATP practical test, a single-engine airplane would have to be rented for three hours to practice for the test and two hours for the test.

• In addition to renting an airplane, a designee would be required. We estimate that the designee would cost the applicant $500.

• Based on data from the Airlines for America (A4A), we estimate that the average domestic round-trip fare and fees would be about $340.⁷

⁷ http://airlines.org/dataset/annual-round-trip-fares-and-fees-domestic/ Accessed October 2018.

• Based on data from the General Services Administration (GSA) website, for 2017, the average cost of a hotel in the continental US would be $93 per day and the average cost of the per diem, including meals and incidental expenses, would be $51 per day.⁸

⁸ https://www.gsa.gov/travel/plan-book/per-diem-rates/per-diem-files-archived.

As previously discussed, there were no single-engine airplanes that required a type rating until the certification of the Cirrus Vision Jet in 2016.⁹ From October 2016 through August 2018, 111 pilots received SF50 type ratings. Of these 111 pilots, the FAA estimates that 40 percent could have upgraded their certificate with an airline transport pilot (ATP) certification training program (CTP), but opted to just add the SF50 type rating to their commercial certificate to avoid completing the ATP CTP training costs. Since there are 23 months from October 2016 through August 2018, the FAA calculated that there would be an average of 5 pilots per month that would receive a single-engine type certificate (111 pilots divided by 23 months), or about 60 pilots per year (5 pilots times 12 months). The FAA then calculated that 40 percent of 60 pilots would be 24 pilots (0.4 times 60) per year that could incur costs savings by avoiding the costs of the ATP CTP.

⁹ Based on the FAA Aircraft Registry as of April 2018, there have been about 49 built, including prototypes (http://registry.faa.gov/aircraftinquiry/AcftRef_Results.aspx?Mfrtxt=&Modeltxt=SF-50&PageNo=1).

In order to estimate the cost savings of an applicant obtaining an ATP CTP, they would have two options. For the first option, the applicant would have to complete a five to seven day ATP CTP provided by an FAA-authorized training provider. The FAA calculates the course would take an average of six days ((5 + 7)/2). The applicant would also incur the expense to travel to a flight school to take the course, get a hotel for six days, and pay a per diem for meals. In the assumptions above, an ATP CTP would cost $5,000, round trip airfare would cost about $340, a hotel would cost $93 a day, and meals and incidental expenses would cost $51 a day. Using these costs, the FAA estimates that this proposal would save an applicant about $6,200 in 2017 dollars. The following table shows the cost saving results of the first option over the five-year period of analysis.

Option 1 Cost Savings
Year | Potential Savings in 2017$: Class | Potential Savings in 2017$: Fare | Potential Savings in 2017$: Hotel | Potential Savings in 2017$: Per diem | Potential Savings in 2017$: Avg days | Potential Savings in 2017$: # pilots | Potential Savings in 2017$: Total cost savings | Present value: 7% | Present value: 3%
| A | B | C | D | E | F | (A+B+((C+D)×E))×F
1 | $5,000 | $340 | $93 | $51 | $6 | $24 | $148,893 | $139,152 | $144,556
2 | 5,000 | 340 | 93 | 51 | 6 | 24 | 148,893 | 130,049 | 140,346
3 | 5,000 | 340 | 93 | 51 | 6 | 24 | 148,893 | 121,541 | 136,258
4 | 5,000 | 340 | 93 | 51 | 6 | 24 | 148,893 | 113,590 | 132,289
5 | 5,000 | 340 | 93 | 51 | 6 | 24 | 148,893 | 106,159 | 128,436
Total |  |  |  |  |  |  | 744,464 | 610,490 | 681,886
Savings per pilot |  |  |  |  |  |  | 6,204 | 5,087 | 5,682
Note: Numbers may not add due to rounding.

For the second option, the applicant would have to rent a single-engine airplane and hire a designee (check pilot) for the practical test. We estimate that for an ATP practical test, a single-engine airplane would have to be rented for three hours to practice for the test and two hours for the test. In the assumptions above, a single-engine airplane would cost $175 per hour. The FAA calculates the airplane rental would cost a total of $875 dollars to rent ($175 * (2 + 3 hours)). The applicant would also incur the expense to travel to a private plane rental company, hire a designee, get a hotel for one day, and pay a per diem for meals. In the assumptions above, round trip airfare would cost about $340, a designee would cost $500, a hotel would cost $93 a day, and meals and incidental expenses would cost $51 a day. Using these costs, the FAA estimates that this proposal would save an applicant about $1,900 in 2017 dollars. The following table shows the cost saving results of the second option over the five-year period of analysis.

Option 2 Cost Savings
Year | Potential Savings in 2017$: Fare | Potential Savings in 2017$: A/C rental | Potential Savings in 2017$: Designee | Potential Savings in 2017$: Hotel | Potential Savings in 2017$: Per diem | Potential Savings in 2017$: # pilots | Potential Savings in 2017$: Total cost | Present value: 7% | Present value: 3%
| A | B | C | D | E | F | (A+B+C+D+E)*F
1 | $340 | $875 | $500 | $93 | $51 | $24 | $44,613 | $41,694 | $43,313
2 | 340 | 875 | 500 | 93 | 51 | 24 | 44,613 | 38,967 | 42,052
3 | 340 | 875 | 500 | 93 | 51 | 24 | 44,613 | 36,417 | 40,827
4 | 340 | 875 | 500 | 93 | 51 | 24 | 44,613 | 34,035 | 39,638
5 | 340 | 875 | 500 | 93 | 51 | 24 | 44,613 | 31,808 | 38,483
Total |  |  |  |  |  |  | 223,064 | 182,922 | 204,314
Savings per pilot |  |  |  |  |  |  | 1,859 | 1,524 | 1,703
Note: Numbers may not add due to rounding.

The FAA estimates that this proposal would have costs savings between $223 thousand to $744 thousand over the five year period of analysis. The FAA considers this proposed rule would provide small cost savings with no additional costs.

Therefore, the FAA has determined that this proposed rule is not a “significant regulatory action” as defined in section 3(f) of Executive Order 12866, and is not “significant” as defined in DOT's Regulatory Policies and Procedures.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation.” To achieve this principle, agencies are required to solicit and consider flexible regulatory proposals and to explain the rationale for their actions to assure that such proposals are given serious consideration. The RFA covers a wide-range of small entities, including small businesses, not-for-profit organizations, and small governmental jurisdictions.

Agencies must perform a review to determine whether a rulemaking would have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

This proposed rule would not make any changes to the requirements for a pilot seeking a multiengine airplane ATP certificate. Rather, this proposed rule would simply remove an unintended and unnecessary training requirement in multiengine airplanes for a pilot seeking a single-engine airplane ATP certificate concurrently with a single-engine airplane type rating, with no reduction in safety because a pilot will still be required to obtain specific training and be tested to receive the single-engine airplane type rating. This proposed rule would relieve costs for a pilot seeking an ATP certificate concurrently with a single-engine airplane type rating.

Therefore, as provided in section 605(b), the head of the FAA certifies that this proposed rule would not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this proposed rule and determined that it would have only a domestic impact and therefore no effect on international trade.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $155.0 million in lieu of $100 million. This proposed rule does not contain such a mandate; therefore, the requirements of Title II of the Act do not apply.

E. Paperwork Reduction Act

The Paperwork Reduction Act of 1995 (44 U.S.C. 3507(d)) requires that the FAA consider the impact of paperwork and other information collection burdens imposed on the public. The FAA has determined that there would be no new requirement for information collection associated with this proposed rule. FAA has also determined it is not necessary to amend any existing collection. The current paperwork filing that established the ATP CTP imposes a requirement for a training provider to submit a training program to the FAA for approval. In the original filing it was determined there was no paperwork burden on a person taking the ATP CTP, therefore this proposed rule would have no impact on that filing. The FAA also evaluated the paperwork filing for the Airman Certificate and/or Rating Application. If an applicant is seeking a multiengine airplane ATP certificate, submitting the ATP CTP graduation certificate is required as part of that collection. This proposed rule does not change that requirement therefore no amendment is needed.

F. International Compatibility

In keeping with U.S. obligations under the Convention on International Civil Aviation, it is FAA policy to conform to International Civil Aviation Organization (ICAO) Standards and Recommended Practices to the maximum extent practicable. The FAA has determined that there are no ICAO Standards and Recommended Practices that correspond to these proposed regulations.

G. Environmental Analysis

FAA Order 1050.1F identifies FAA actions that are categorically excluded from preparation of an environmental assessment or environmental impact statement under the National Environmental Policy Act in the absence of extraordinary circumstances. The FAA has determined this proposed rulemaking action qualifies for the categorical exclusion identified in paragraph 5-6.6 and involves no extraordinary circumstances.

V. Executive Order Determinations

A. Executive Order 13132, Federalism

The FAA has analyzed this proposed rule under the principles and criteria of Executive Order 13132, Federalism. The agency has determined that this action would not have a substantial direct effect on the States, or the relationship between the Federal Government and the States, or on the distribution of power and responsibilities among the various levels of government, and, therefore, would not have Federalism implications.

B. Executive Order 13211, Regulations That Significantly Affect Energy Supply, Distribution, or Use

The FAA analyzed this proposed rule under Executive Order 13211, Actions Concerning Regulations that Significantly Affect Energy Supply, Distribution, or Use (May 18, 2001). The agency has determined that it would not be a “significant energy action” under the executive order and would not be likely to have a significant adverse effect on the supply, distribution, or use of energy.

C. Executive Order 13609, International Cooperation

Executive Order 13609, Promoting International Regulatory Cooperation, promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

D. Executive Order 13771, Reducing Regulation and Controlling Regulatory Costs

This proposed rule is expected to be an E.O. 13771 deregulatory action. Details on the estimated cost savings of this proposed rule can be found in the rule's economic analysis.

VI. Additional Information

A. Comments Invited

The FAA invites interested persons to participate in this rulemaking by submitting written comments, data, or views. The agency also invites comments relating to the economic, environmental, energy, or federalism impacts that might result from adopting the rulemaking action in this document. The most helpful comments reference a specific portion of the rulemaking action, explain the reason for any recommended change, and include supporting data. To ensure the docket does not contain duplicate comments, commenters should send only one copy of written comments, or if comments are filed electronically, commenters should submit only one time.

The FAA will file in the docket all comments it receives, as well as a report summarizing each substantive public contact with FAA personnel concerning this rulemaking. The FAA will consider all comments it receives on or before the closing date for comments. The FAA will consider comments filed after the comment period has closed if it is possible to do so without incurring expense or delay. The agency may change this rulemaking action in light of the comments it receives.

Proprietary or Confidential Business Information: Commenters should not file proprietary or confidential business information in the docket. Such information must be sent or delivered directly to the person identified in the FOR FURTHER INFORMATION CONTACT section of this document, and marked as proprietary or confidential. If submitting information on a disk or CD ROM, mark the outside of the disk or CD ROM, and identify electronically within the disk or CD ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the internet by—

1. Searching the Federal eRulemaking Portal (http://www.regulations.gov);

2. Visiting the FAA's Regulations and Policies web page at http://www.faa.gov/regulations_policies or

3. Accessing the Government Printing Office's web page at http://www.gpo.gov/fdsys/.

Copies may also be obtained by sending a request to the Federal Aviation Administration, Office of Rulemaking, ARM-1, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

C. Small Business Regulatory Enforcement Fairness Act

The Small Business Regulatory Enforcement Fairness Act of 1996 (SBREFA) requires FAA to comply with small entity requests for information or advice about compliance with statutes and regulations within its jurisdiction. A small entity with questions regarding this document may contact its local FAA official, or the person listed under the FOR FURTHER INFORMATION CONTACT heading at the beginning of the preamble. To find out more about SBREFA on the internet, visit http://www.faa.gov/regulations_policies/rulemaking/sbre_act/.

List of Subjects in 14 CFR Part 61

Aircraft, Airmen, Aviation safety.

The Proposed Amendment

In consideration of the foregoing, the Federal Aviation Administration proposes to amend chapter I of title 14, Code of Federal Regulations as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 44729, 44903, 45102-45103, 45301-45302, Sec. 2307 Pub. L. 114-190, 130 Stat. 615 (49 U.S.C. 44703 note).

2. Amend § 61.35 by:

a. Revising paragraph (a)(2) and paragraph (a)(3)(iii)(A);

b. Removing paragraph (a)(3)(iii)(B);

c. Re-designating paragraph (a)(3)(iii)(C) as paragraph (a)(3)(iii)(B); and

d. Revising newly re-designated paragraph (a)(3)(iii)(B)

The revisions read as follows:

§ 61.35 Knowledge test: Prerequisites and passing grades.

(a) * * *

(2) For the knowledge test for an airline transport pilot certificate with an airplane category multiengine class rating, a graduation certificate for the airline transport pilot certification training program specified in § 61.156; and

(3) * * *

(iii) * * *

(A) For issuance of certificates other than the ATP certificate with an airplane category multiengine class rating, the applicant meets or will meet the age requirements of this part for the certificate sought before the expiration date of the airman knowledge test report; and

(B) For issuance of an ATP certificate with an airplane category multiengine class rating obtained under the aeronautical experience requirements of §§ 61.159 or 61.160, the applicant is at least 18 years of age at the time of the knowledge test;

* * * * *

3. Amend § 61.39 by revising the introductory text of paragraph (b) and the introductory text of paragraph (d) to read as follows:

§ 61.39 Prerequisites for practical tests.

* * * * *

(b) An applicant for an airline transport pilot certificate with an airplane category multiengine class rating or an airline transport pilot certificate obtained concurrently with a multiengine airplane type rating may take the practical test with an expired knowledge test only if the applicant passed the knowledge test after July 31, 2014, and is employed:

* * * * *

(d) In addition to the requirements in paragraph (a) of this section, to be eligible for a practical test for an airline transport pilot certificate with an airplane category multiengine class rating or airline transport pilot certificate obtained concurrently with a multiengine airplane type rating, an applicant must:

* * * * *

4. Amend § 61.153 by revising paragraph (e) to read as follows:

§ 61.153 Eligibility requirements: General.

* * * * *

(e) For an airline transport pilot certificate with an airplane category multiengine class rating or an airline transport pilot certificate obtained concurrently with a multiengine airplane type rating, receive a graduation certificate from an authorized training provider certifying completion of the airline transport pilot certification training program specified in § 61.156 before applying for the knowledge test required by paragraph (g) of this section;

* * * * *

5. Amend § 61.155 by revising paragraph (c)(14) and removing paragraph (d) to read as follows:

§ 61.155 Aeronautical knowledge.

* * * * *

(c) * * *

(14) For an airplane category multiengine class rating, the content of the airline transport pilot certification training program in § 61.156.

6. Amend § 61.156 by revising the heading and introductory text to read as follows:

§ 61.156 Training requirements: Airplane category—multiengine class or multiengine airplane type rating concurrently with an airline transport pilot certificate.

A person who applies for the knowledge test for an airline transport pilot certificate with an airplane category multiengine class rating must present a graduation certificate from an authorized training provider under part 121, 135, 141, or 142 of this chapter certifying the applicant has completed the following training in a course approved by the Administrator.

* * * * *

7. Amend § 61.160 by revising the introductory text of paragraph (a), the introductory text of paragraph (b), the introductory text of paragraph (c), and paragraph (d) to read as follows:

§ 61.160 Aeronautical experience—airplane category restricted privileges.

(a) Except for a person who has been removed from flying status for lack of proficiency or because of a disciplinary action involving aircraft operations, a U.S. military pilot or former U.S. military pilot may apply for an airline transport pilot certificate with an airplane category multiengine class rating or an airline transport pilot certificate concurrently with a multiengine airplane type rating with a minimum of 750 hours of total time as a pilot if the pilot presents:

* * * * *

(b) A person may apply for an airline transport pilot certificate with an airplane category multiengine class rating or an airline transport pilot certificate concurrently with a multiengine airplane type rating with a minimum of 1,000 hours of total time as a pilot if the person:

* * * * *

(c) A person may apply for an airline transport pilot certificate with an airplane category multiengine class rating or an airline transport pilot certificate concurrently with a multiengine airplane type rating with a minimum of 1,250 hours of total time as a pilot if the person:

* * * * *

(d) A graduate of an institution of higher education who completes fewer than 60 semester credit hours but at least 30 credit hours and otherwise satisfies the requirements of paragraph (b) may apply for airline transport pilot certificate with an airplane category multiengine class rating or an airline transport pilot certificate concurrently with a multiengine airplane type rating with a minimum of 1,250 hours of total time as a pilot.

* * * * *

8. Amend § 61.165 by revising paragraph (c)(2), the introductory text of paragraph (f), and paragraph (f)(2) to read as follows:

§ 61.165 Additional aircraft category and class ratings.

* * * * *

(c) * * *

(2) Successfully complete the airline transport pilot certification training program specified in § 61.156;

* * * * *

(f) Adding a multiengine class rating to an airline transport pilot certificate with a single engine class rating. A person applying to add a multiengine class rating, or a multiengine class rating concurrently with a multiengine airplane type rating, to an airline transport pilot certificate with an airplane category single engine class rating must—

* * *

(2) Pass a required knowledge test on the aeronautical knowledge areas of § 61.155(c), as applicable to multiengine airplanes;

* * * * *

Issued under authority provided by 49 U.S.C. 106(f), 44701(a)(5), and 44703(a) in Washington, DC, on December 13, 2018.
Rick Domingo,
Executive Director, Flight Standards Service.

[FR Doc. 2018-27402 Filed 12-19-18; 8:45 am]

BILLING CODE 4910-13-P